DEPARTMENT OF AGRICULTURE

Forest Service

Kootenai National Forest, Lincoln County; Montana; Montanore Mine Project—Withdrawal of Draft Supplemental Environmental Impact Statement

AGENCY: Forest Service, Agriculture (USDA).

ACTION: Notice; withdrawal.

SUMMARY: The Kootenai National Forest is withdrawing its draft Supplemental Environmental Impact Statement (DSEIS) for the 2019 Montanore Mine Project. The Montanore Mine Project Notice of Intent was published in the Federal Register on December 28, 2017 (82 FR 61533) and the NOA was published in the Federal Register on June 21, 2019 (84 FR 29201).

FOR FURTHER INFORMATION CONTACT: Questions concerning this notice should be directed to Craig Towery at craig.towery@usda.gov or 406-283-7657.

Individuals who use telecommunication devices for the deaf and hard of hearing (TDD) may call the Federal Relay Service (FRS) at 1-800-877-8339, 24 hours a day, every day of the year, including holidays.

SUPPLEMENTARY INFORMATION: Hecla Mining Company has withdrawn from consideration the current Plan of Operations for the Montanore Project which eliminates the need for the current draft Supplemental Environmental Impact Statement.

Dated: June 13, 2022.
Deborah Hollen,
Acting Associate Deputy Chief, National Forest System.

[FR Doc. 2022-13089 Filed 6-16-22; 8:45 am]

BILLING CODE 3411-15-P